DEPARTMENT OF HEALTH AND HUMAN SERVICES

Centers for Medicare & Medicaid Services

[Document Identifier: CMS-179]

Agency Information Collection Activities: Proposed Collection; Comment Request

ACTION: Notice; partial withdrawal.

SUMMARY: On October 1, 2018 (83 FR 49389), the Centers for Medicare & Medicaid Services (CMS) published a notice entitled, “Agency Information Collection Activities: Proposed Collection; Comment Request.” That notice invited public comments on three separate information collection requests specific to document identifiers: CMS-10142, CMS-R-262, and CMS-179. Due to technical difficulties associated with CMS-179 (OMB control number: 0938-0193) titled “Medicaid State Plan Base Plan Pages,” through the publication of this document we are withdrawing CMS-179 from our October 1, 2018, information collection request. While the technical issues associated with CMS-179 have recently been resolved, because of the delay we are publishing a new 60-day information collection request elsewhere in today's Federal Register. The November 30, 2018, comment due date for the remaining two collections [CMS-10142 (OMB control number: 0938-0944) titled, “Bid Pricing Tool (BPT) for Medicare Advantage (MA) Plans and Prescription Drug Plans (PDP)” and CMS-R-262 (OMB control number: 0938-0763), titled “Contract Year 2020 Plan Benefit Package (PBP) Software and Formulary Submission”] remains in effect without change.

Dated: November 21, 2018.
William N. Parham, III,
Director, Paperwork Reduction Staff, Office of Strategic Operations and Regulatory Affairs.

[FR Doc. 2018-25840 Filed 11-26-18; 8:45 am]

BILLING CODE 4120-01-P